DEPARTMENT OF HEALTH AND HUMAN SERVICES

National Institutes of Health

National Institute on Drug Abuse; Amended Notice of Meeting

Notice is hereby given of a change in the meeting of the National Advisory Council on Drug Abuse, February 3, 2009, 2 p.m. to February 4, 2009, 1 p.m., National Institutes of Health, Neuroscience Center, 6001 Executive Boulevard, Rockville, MD 20852 which was published in the Federal Register on January 21, 2009, 74; 12 FR E9-985.

The meeting scheduled for February 3, 2009 from 2 p.m. to 5 p.m. was changed from open to closed to the public.

The meeting is partially closed to the public.

Dated: January 23, 2009.
Jennifer Spaeth,
Director, Office of Federal Advisory Committee Policy.

[FR Doc. E9-1968 Filed 1-29-09; 8:45 am]

BILLING CODE 4140-01-M